DEPARTMENT OF TRANSPORTATION

Federal Aviation Administration

Notice of Approval of Finding of No Significant Impact/Record of Decision (FONSI/ROD) for the Proposed Replacement Airport (XWA) Serving D-III Aircraft in Williston, North Dakota

AGENCY: Federal Aviation Administration (FAA), DOT.

ACTION: Notice.

SUMMARY: The FAA is announcing approval of Finding of No Significant Impact/Record of Decision for the proposed replacement airport (XWA) serving D-III aircraft in Williston, North Dakota. The FAA approved the FONSI/ROD on September 22, 2015.

SUPPLEMENTARY INFORMATION: The FONSI approved the Sponsor's proposed action to develop aviation facilities that meet FAA airport design standards and accommodate current and projected levels of aviation activity for the Williston area. The need for the proposed action is to provide aviation facilities necessary to meet the expected demand for the forecasted growth of air traffic in Williston area consistent with FAA airport design standards for ARC D-III aircraft, as well as provide the capability for anticipated future operation of larger aircraft.

The City of Williston proposes to decommission the existing Sloulin Field International Airport (ISN) and construct, operate and maintain a new airport located in Williston, North Dakota. The Airport will be relocated approximately 6 miles north and 5 miles west of Williston. The proposed new terminal building would be located approximately 2.5 miles from US Highway 2. The proposed new airport would be called the Williston Basin International Airport and the airport identifier changed to (XWA).

The City of Williston proposes to relocate the Sloulin Field International Airport to develop aviation facilities that meet FAA airport design standards and accommodated current and projected levels of aviation activity. They propose to construct two runways and related aviation facilities that meet FAA airport design standards for Airport Reference Code (ARC) D-III aircraft as well as acquire land for compatible land use and expansion of facilities to future aviation demands. Development of a replacement airport requires FAA approval of an airport layout plan (ALP), the final EA and FONSI/ROD and approval of funding from local agencies, North Dakota Aeronautics Commission (NDAC), and the FAA. The proposed action would require the acquisition of land for the construction of access roads, construction of runways, taxiways, aprons and various airport structures, and the installation of navigational aids to meet FAA design standards for ARC D-III aircraft. The proposed action includes acquisition of land for compatible land use, construction of facilities, and the closure and sale of the existing Sloulin Field International Airport. The relocated airport is anticipated to be constructed from 2015-2018, pending funding availability.

The FONSI/ROD indicates the project is consistent with existing environmental policies and objectives as set forth in the National Environmental Policy Act (NEPA) of 1969, as amended and will not significantly affect the quality of the environment.

In reaching this decision, the FAA has given careful consideration to: (a) The role of Williston Airport plays in the national air transportation system, (b) aviation safety, and (c) preferences of the airport owner/operator, and (d) anticipated environmental impact.

DATES: This notice is effective October 22, 2015.

FOR FURTHER INFORMATION CONTACT: Ms. Lindsay Butler, Federal Aviation Administration, Great Lakes Regional Office, 2300 East Devon Avenue, Des Plaines, IL 60018. Telephone number: 847-294-7723.

Issued in Des Plaines, IL, on September 30, 2015.
Richard M. Kula,
Manager, Planning/Programming Branch, FAA Great Lakes Region.

[FR Doc. 2015-26879 Filed 10-21-15; 8:45 am]

BILLING CODE 4910-13-P